INTERNATIONAL TRADE COMMISSION

[Investigation No. 332-607]

Nonfat Milk Solids: Competitive Conditions for the United States and Major Foreign Suppliers

AGENCY: United States International Trade Commission.

ACTION: Change in transmittal date of the Commission's report.

SUMMARY: At the request of the U.S. Trade Representative, the Commission will transmit its report no later than April 27, 2026.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Rudy Telles Jr. (202-205-2597 or Rodolfo.Telles@usitc.gov) or Deputy Project Leaders Kim Ha (202-205-3343 or Kim.Ha@usitc.gov) and Ivan Lee (202-205-2163 or Ivan.Lee@usitc.gov) for information specific to this investigation. For information on the legal aspects of this investigation, contact Brian Allen (202-205-3034 or Brian.Allen@usitc.gov) of the Commission's Office of the General Counsel. The media should contact Claire Huber, Office of External Relations (202-205-1819 or Claire.Huber@usitc.gov). Hearing-impaired individuals are advised that information on this matter can be obtained by contacting the Commission's TDD terminal on 202-205-1810. General information concerning the Commission may be obtained by accessing its internet address (https://www.usitc.gov). Persons with mobility impairments who will need special assistance in gaining access to the Commission should contact the Office of the Secretary at 202-205-2000.

SUPPLEMENTARY INFORMATION: The Commission published notice of institution of the above-referenced investigation in the Federal Register on May 23, 2025 (90 FR 22113, May 23, 2025). In a letter dated December 15, 2025, the U.S. Trade Representative requested that the Commission transmit its report in this investigation no later than April 27, 2026. Therefore, the Commission will transmit its report no later than April 27, 2026, instead of March 23, 2026. All other dates pertaining to this investigation remain the same as in the notice published in the Federal Register on May 23, 2025, as modified by the notice published in the Federal Register on December 11, 2025 (90 FR 57484, December 11, 2025).

By order of the Commission.
Issued: December 23, 2025.
Lisa Barton,
Secretary to the Commission.

[FR Doc. 2025-24038 Filed 12-30-25; 8:45 am]

BILLING CODE 7020-02-P